DEPARTMENT OF HEALTH AND HUMAN SERVICES

Centers for Disease Control and Prevention

[30Day-58-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Survey of Veterinarians to Assess Infection Control Practices and Use of Personal Protective Equipment to Reduce Transmission of Zoonotic Diseases—New—National Center for Infectious Diseases (NCID), Centers for Disease Control and Prevention (CDC).

Recent outbreaks of emerging zoonotic diseases in the United States have highlighted the need to better protect the veterinary community from infectious diseases by educating them about personal protective measures. In particular, during the recent 2003 outbreak of monkeypox in the United States associated with prairie dogs and imported rodents, veterinarians or veterinary staff represented over 25% of confirmed and probable human cases. During the height of this outbreak, health officials were tasked with providing information to the medical and veterinary communities to ensure safety when examining monkeypox-infected patients; a lack of universally accepted infection control and personal protection guidelines within the veterinary community hampered the delivery of effective prevention messages to this vulnerable population.

The proposed survey asks veterinarians about infection control procedures employed in their clinics and the use of personal protective equipment to prevent zoonotic disease transmission.

The proposed study consists of a self-administered, written questionnaire mailed to veterinary clinics in the United States. The American Veterinary Medical Association has volunteered to collaborate on the survey and will provide a list of clinics through their membership mailing list. The study objectives are to describe current knowledge, attitudes, and practices of veterinarians regarding zoonotic disease risks and protection of veterinary clinic staff, and to determine what types of national guidelines on infection control practices in veterinary settings are needed. The estimated annualized burden is 417 hours.

Respondents | Number of respondents | Number of responses/ respondent | Average burden/response (in hours)
Written Questionnaires | 2,500 | 1 | 10/60

Dated: June 21, 2004.
Diane Allen,
Acting Director, Management Analysis and Services Office, Centers for Disease Control and Prevention.

[FR Doc. 04-14933 Filed 6-30-04; 8:45 am]

BILLING CODE 4163-18-P